DEPARTMENT OF COMMERCE

National Institute of Standards and Technology

Notice of Invention Available for Licensing

AGENCY: National Institute of Standards and Technology, Commerce.

ACTION: Notice of invention available for licensing.

SUMMARY: The invention listed below is owned by the U.S. Government, as represented by the Secretary of Commerce. The invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title as indicated below.

SUPPLEMENTARY INFORMATION: The invention available for licensing is:

Title: Method and Apparatus for Measuring the Temperature of a Liquid Medium.

Abstract: A method and apparatus for measuring the temperature of a liquid medium are disclosed. In accordance with the present invention, a liquid medium containing a fluorescent dye is provided. The fluorescent dye is chosen to exhibit a first fluorescence intensity at a first wavelength and a second fluorescence intensity at a second wavelength, wherein the temperature of the liquid medium may be determined in accordance with a predetermined temperature function of the first fluorescence intensity and the second fluorescence intensity. The method of the invention comprises the steps of measuring the fluorescence intensities at the first and second wavelengths; and determining the temperature of the liquid medium in accordance with the predetermined temperature function. The apparatus comprises means for measuring the first and second fluorescence intensities, and means for determining the temperature of the liquid medium in accordance with the predetermined temperature function. The apparatus preferably is a confocal optical measuring device, and preferably is capable of determining a temperature profile within the liquid medium.

Dated: September 5, 2002.
Karen H. Brown,
Deputy Director.

[FR Doc. 02-23268 Filed 9-11-02; 8:45 am]

BILLING CODE 3510-13-P